DEPARTMENT OF COMMERCE

National Oceanic and Atmospheric Administration

[I.D. 121900B]

Marine Mammals; File No. 924-1484.

AGENCY: National Marine Fisheries Service (NMFS), National Oceanic and Atmospheric Administration (NOAA), Commerce.

ACTION: Issuance of permit amendment.

SUMMARY: Notice is hereby given that Permit No. 924-1484-00, issued to Marsha Green, Ph.D., Albright College, P.O. Box 15234, Reading, PA 19612-5234, was amended.

ADDRESSES: The amendment and related documents are available for review upon written request or by appointment in the following offices:

Permits and Documentation Division, Office of Protected Resources, NMFS, 1315 East-West Highway, Room 13130, Silver Spring, MD 20910 (301/713-2289);

Regional Administrator, Southwest Region, NMFS, 501 West Ocean Blvd., Suite 4200, Long Beach, CA 90802-4213 (562/980-4027); and

Pacific Islands Area Office, National Marine Fisheries Service, NOAA, 1601 Kapiolani Boulevard, Suite 1110, Honolulu HI 96814-4700 (808/973-2935).

FOR FURTHER INFORMATION CONTACT: Trevor Spradlin or Jill Lewandowski, 301/713-2289.

SUPPLEMENTARY INFORMATION: The subject amendment has been issued under the authority of the Marine Mammal Protection Act of 1972, as amended (16 U.S.C. 1361 et seq.), the provisions of § 216.39 of the Regulations Governing the Taking and Importing of Marine Mammals (50 CFR part 216), the Endangered Species Act of 1973, as amended (ESA; 16 U.S.C. 1531 et seq.), and the provisions of § 222.306 of the regulations governing the taking, importing, and exporting of endangered and threatened species (50 CFR parts 222-226).

The permit has been amended to (1) change the expiration date to August 31, 2005; (2) authorize the close approach to spinner dolphins (Stenella longirostris), spotted dolphins (Stenella attenuata) and bottlenose dolphins (Tursiops truncatus) that are associating with humpback whales; and (3) increase the number of annual humpback whale takes to 350 for controlled vessel approaches and 700 for audio/video recordings.

Issuance of this permit, as required by the ESA, was based on a finding that such permit (1) was applied for in good faith, (2) will not operate to the disadvantage of the endangered species which is the subject of this permit, and (3) is consistent with the purposes and policies set forth in section 2 of the ESA.

Dated: December 28, 2000.
Ann D. Terbush,
Chief, Permits and Documentation Division, Office of Protected Resources, National Marine Fisheries Service.

[FR Doc. 01-206 Filed 1-3-01; 8:45 am]

BILLING CODE 3510-22-S